ENVIRONMENTAL PROTECTION AGENCY

[EPA-HQ-OGC-2017-0030; FRL-9962-52-OGC]

Proposed Settlement Agreement, Clean Air Act Petition for Review; Reopening of Comment Period

AGENCY: Environmental Protection Agency (EPA).

ACTION: Notice; reopening of comment period.

SUMMARY: EPA issued a notice in the Federal Register on January 19, 2017, soliciting comments on the proposed settlement agreement in Sierra Club v. EPA, No. 16-1158 (D.C. Cir.). The proposed settlement agreement would resolve Sierra Club's lawsuit challenging EPA's final action titled “Revisions to Ambient Monitoring Quality Assurance and Other Requirements” upon EPA's sending of two nonbinding guidance documents (described in the proposed settlement agreement) recommending public notification practices concerning the submission and approval of ambient air monitoring network plans. The comment period on the proposed settlement agreement closed on February 21, 2017. EPA received two requests to review and comment on the draft guidance before issuance. The draft guidance documents are now available and will be placed in the docket. This document reopens the comment period on the proposed settlement agreement for 30 days from June 13, 2017 to July 13, 2017. EPA is soliciting comment on whether EPA should proceed to finalize the settlement.

DATES: Written comments on the proposed settlement agreement must be received by July 13, 2017.

ADDRESSES: Follow the detailed instructions provided under ADDRESSES in the Federal Register document of January 19, 2017 (82 FR 6532) (EPA-HQ-OGC-2017-0030; FRL-9958-55-OGC).

FOR FURTHER INFORMATION CONTACT: Jonathan Skinner-Thompson, Air and Radiation Law Office (2344A), Office of General Counsel, U.S. Environmental Protection Agency, 1200 Pennsylvania Ave. NW., Washington, DC 20460; telephone: (202) 564-0291; fax number (202) 564-5603; email address: skinner-thompson.jonathan@epa.gov.

SUPPLEMENTARY INFORMATION: This document reopens the public comment period established in the Federal Register document of January 19, 2017. In that document, EPA announced a 30-day public review period soliciting comments on the proposed settlement agreement in Sierra Club v. EPA, No. 16-1158 (D.C. Cir.). The proposed settlement agreement would resolve Sierra Club's lawsuit challenging EPA's final action titled “Revisions to Ambient Monitoring Quality Assurance and Other Requirements” upon EPA's issuance of two nonbinding guidance documents recommending public notification practices concerning the submission and approval of ambient air monitoring network plans. As described in paragraph 2 of the proposed settlement agreement, one guidance document would be sent to state and local monitoring agencies recommending that air agencies make proposed network plans available on a state Web site and notify interested parties of plan availability for public comment. EPA would also request that states confirm in a submitted plan the timing and form of notice given. The guidance would explicitly be a nonbinding recommendation. As described in paragraph 3 of the proposed settlement agreement, the second guidance document would be sent to EPA regional offices, requesting that regions notify interested parties within 15 business days of EPA action on a network plan and that approved network plans be uploaded to EPA Web site within 15 business days of approval. EPA received two requests from state agencies to review and comment on the draft guidance before issuance. The draft guidance documents are now available to consider in commenting on the proposed settlement agreement and will be placed in the official docket for this action under Docket ID No. EPA-HQ-OGC-2017-0030. EPA is hereby reopening the comment period on the proposed settlement agreement for 30 days from June 13, 2017 to July 13, 2017. EPA is soliciting comment on whether EPA should proceed to finalize the settlement.

To submit comments, or access the docket, please follow the detailed instructions provided under ADDRESSES in the Federal Register document of January 19, 2017. If you have questions, consult the person listed under FOR FURTHER INFORMATION CONTACT.

Dated: May 3, 2017.
Lorie J. Schmidt,
Associate General Counsel.

[FR Doc. 2017-12237 Filed 6-12-17; 8:45 am]

BILLING CODE 6560-50-P